DEPARTMENT OF ENERGY

Federal Energy Regulatory Commission

Notice of Change in Time of Commission Meeting

January 4, 2011.

The Commission's open meeting scheduled for Thursday, January 20, 2011, will begin at 9 a.m.

Kimberly D. Bose,
Secretary.

[FR Doc. 2011-300 Filed 1-10-11; 8:45 am]

BILLING CODE 6717-01-P